DEPARTMENT OF ENERGY

Federal Energy Regulatory Commission

[Docket No. CP06-5-003]

Empire State Pipeline and Empire Pipeline, Inc.; Notice of Compliance Filing

October 5, 2006.

Take notice that on September 18, 2006, Empire State Pipeline and Empire Pipeline, Inc. (collectively Empire), submitted a compliance filing pursuant to “Preliminary Determination on Non-Environmental Issues” issued July 20, 2006 in Docket No. CP06-5-000, et al., 116 FERC ¶ 61,074.

Empire states that the filing contains: (1) Revised pro forma tariff sheets reflecting the Commission's rulings in the July 20, 2006 order as required by Ordering Paragraph G, which include revised recourse rates in accordance with Ordering Paragraph H; (2) revised Exhibit N, Parts 1 and 3, which shows the derivation of the revised initial rates, in accordance with Ordering Paragraph H, including support for Empire's proposed discount adjustment, as required by Paragraph 106 of the July 20, 2006 order; and (3) the Affidavit of Ronald C. Kraemer, Vice President, which includes additional support for Empire's proposes discount adjustment, as required by Paragraph 106.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time October 23, 2005.

Magalie R. Salas,
Secretary.

[FR Doc. E6-16970 Filed 10-12-06; 8:45 am]

BILLING CODE 6717-01-P